DEPARTMENT OF STATE

[Public Notice 3324]

Notice of Open Session of the Cultural Property Advisory Committee

Pursuant to the authority vested in me, under Department of State Delegation of Authority No. 236-2, the Cultural Property Advisory Committee will meet in open session from approximately 10 am to 12 noon, on Wednesday, June 28, 2000. The session will be held in the Trustees Room, 2nd Floor, The New York Public Library, Fifth Avenue and 42nd Street, New York, NY.

This open session is solely for information exchange between the Cultural Property Advisory Committee and persons interested in the work of the Committee pursuant to 19 U.S.C. 2601, et seq., the Convention on Cultural Property Implementation Act. Information about the Committee, the Act, and the 1970 UNESCO Convention on the Means of Prohibiting and Preventing the Illicit Import, Export and Transfer of Ownership of Cultural Property may be found at http://exchanges.state.gov/education/culprop.

The Committee will make presentations about its work and about implementation of the Act followed by a question and answer period. In order to allow the maximum participation possible, individuals will be limited to five minutes each for comments/questions.

Due to the Library's security procedures and limited seating, prior notification of attendance is required. Attendees must use the entrance on 42nd Street, between Fifth and Sixth Avenues. Interested persons should contact the Cultural Property Office at (202) 619-6612 by 5 pm (ESDT), June 23.

Dated: May 25, 2000.
William B. Bader,
Assistant Secretary of State for Educational and Cultural Affairs, Department of State.

[FR Doc. 00-13543 Filed 5-30-00; 8:45 am]

BILLING CODE 4710-11-U